DEPARTMENT OF VETERANS AFFAIRS

[OMB Control No. 2900-0300]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 22, 2001.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail denise.mclamb@mail.va.gov. Please refer to “OMB Control No. 2900-0300.”

SUPPLEMENTARY INFORMATION: Title: Veterans Application for Assistance in Acquiring Special Housing Adaptations, VA Form 26-4555d.

OMB Control Number: 2900-0300.

Type of Review: Extension of a currently approved collection.

Abstract: VA Form 26-4555d is used by disabled veterans in applying for special housing and adaptations to dwellings. Grants are available to assist disabled veterans in making adaptations to their current residences or one, which they intend to live in as long as the veteran or a member of the veteran's family owns the home. It also provides information for use in approving or disapproving a veteran's application for a grant.

An agency may not conduct or sponsor, and a person is not required to respond to a collection of information unless it displays a currently valid OMB control number. The Federal Register Notice with a 60-day comment period soliciting comments on this collection of information was published on October 17, 2000, on page 61380.

Affected Public: Individuals or households.

Estimated Annual Burden: 25 hours.

Estimated Average Burden Per Respondent: 20 minutes.

Frequency of Response: On occasion.

Estimated Number of Respondents: 75.

Send comments and recommendations concerning any aspect of the information collection to VA's OMB Desk Officer, OMB Human Resources and Housing Branch, New Executive Office Building, Room 10235, Washington, DC 20503, (202) 395-7316. Please refer to “OMB Control No. 2900-0300” in any correspondence.

Dated: May 4, 2001.
Donald L. Neilson,
Director, Information Management Service.

[FR Doc. 01-12972 Filed 5-22-01; 8:45 am]

BILLING CODE 8320-01-P